DEPARTMENT OF THE INTERIOR

Bureau of Land Management

[AA-8102-14, AA-8102-15, AA-8102-16, AA-8102-17, AA-8102-18, AA-8102-19, AA-8102-20, AA-8102-21, AA-8102-25, AA-8102-27, AA-8102-28, AA-8102-29, AA-8102-30, AA-8102-31, AA-8102-32, AA-8102-33, AA-8102-34, AA-8102-47; LLAK965000-L14100000-KC0000-P]

Alaska Native Claims Selection

AGENCY: Bureau of Land Management, Interior.

ACTION: Notice of decision approving lands for conveyance.

SUMMARY: As required by 43 CFR 2650.7(d), notice is hereby given that an appealable decision will be issued by the Bureau of Land Management (BLM) to Koniag, Inc.

DATES: Any party claiming a property interest in the lands affected by the decision may appeal the decision within the following time limits: (1) Unknown parties, parties unable to be located after reasonable efforts have been expended to locate, parties who fail or refuse to sign their return receipt, and parties who receive a copy of the decision by regular mail which is not certified, return receipt requested, shall have until December 13, 2010 to file an appeal; (2) Parties receiving service of the decision by certified mail shall have 30 days from the date of receipt to file an appeal. Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504

FOR FURTHER INFORMATION CONTACT: The BLM by phone at 907-271-5960, by e-mail at ak.blm.conveyance@blm.gov, or by telecommunication device (TTD) through the Federal Information Relay Service (FIRS) at 1-800-877-8339, 24 hours a day, 7 days a week.

SUPPLEMENTARY INFORMATION: This decision approves conveyance of the subsurface estate, other than title to or the right to remove gravel and common varieties of minerals and materials, in the lands described below pursuant to the Alaska Native Claims Settlement Act and the Act of January 2, 1976, as amended by the Alaska National Interest Lands Conservation Act. The lands are located on the Alaska Peninsula and are described as:

Seward Meridian, Alaska

T. 37 S., R. 51 W.,

Secs. 1 to 4, inclusive;

Secs. 7 to 36, inclusive.

Containing approximately 22,369 acres.

T. 38 S., R. 51 W.,

Secs. 1 to 5, inclusive;

Secs. 9, 10, 12, and 13;

Secs. 18, 24, and 25.

Containing approximately 7,657 acres.

T. 39 S., R. 51 W.,

Secs. 1, 6, and 7;

Secs. 16 to 21, inclusive;

Secs. 28 to 33, inclusive.

Containing approximately 5,031 acres.

T. 37 S., R. 52 W.,

Secs. 3 to 36, inclusive.

Containing approximately 22,324 acres.

T. 38 S., R. 52 W.,

Secs. 1 to 26, inclusive;

Sec. 35.

Containing approximately 17,186 acres.

T. 39 S., R. 52 W.,

Secs. 1, 2, 11, and 12;

Secs. 13, 14, 23, and 24.

Containing approximately 5,105 acres.

T. 40 S., R. 52 W.,

Secs. 6 to 10, inclusive;

Secs. 15 to 21, inclusive;

Secs. 27 to 36, inclusive.

Containing approximately 9,918 acres.

T. 41 S., R. 52 W.,

Secs. 7, 8, and 9;

Secs. 16, 17, and 18.

Containing approximately 3,776 acres.

T. 37 S., R. 53 W.,

Secs. 1, 2, and 3;

Secs. 10 to 15, inclusive;

Secs. 22 to 27, inclusive.

Containing approximately 9,210 acres.

T. 38 S., R. 53 W.,

Secs. 1, 12, 13, and 24.

Containing approximately 2,560 acres.

T. 39 S., R. 53 W.,

Secs. 34, 35, and 36.

Containing approximately 1,920 acres.

T. 40 S., R. 53 W.,

Secs. 1 to 19, inclusive;

Secs. 21 to 28, inclusive;

Sec. 36.

Containing approximately 17,896 acres.

T. 41 S., R. 53 W.,

Secs. 1, 4, and 9;

Secs. 11, 12, and 16.

Containing approximately 3,840 acres.

T. 40 S., R. 54 W.,

Secs. 7 to 34, inclusive.

Containing approximately 17,901 acres.

Aggregating approximately 146,693 acres.

Notice of the decision will also be published four times in the Kodiak Daily Mirror.

Eileen Ford,
Land Transfer Resolution Specialist, Land Transfer Adjudication II Branch.

[FR Doc. 2010-28433 Filed 11-10-10; 8:45 am]

BILLING CODE 4310-JA-P